DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service (ARS), intends to grant to CoBatCo Inc. of Peoria, Illinois, an exclusive license to U.S. Patent No. 5,676,994, “Non-Separable Starch-Oil Compositions,” issued on October 14, 1997 and to U.S. Patent No. 5,882,713, “Non-Separable Compositions of Starch and Water-Immiscible Organic Materials,” issued on March 16, 1999, for all animal food and feed applications, including but not limited to livestock feed and pet food. ARS also intends to grant to CoBatCo Inc. a license for all human food ingredient and food product applications. This is the third license granted by ARS for these inventions in this field of use. ARS intends to grant no additional licenses in this field of use. U.S. Patent No. 5,676,994 is a continuation of U.S. Patent Application Serial No. 08/233,173, and U.S. Patent No. 5,882,713 is a continuation-in-part of U.S. Patent Application Serial No. 08/233,173. Notice of Availability for U.S. Patent Application Serial No. 08/233,173 was published in the Federal Register on October 24, 1994.

DATES: Comments must be received within thirty (30) calendar days of the date of publication of this notice in the Federal Register.

ADDRESSES: Send comments to: USDA, ARS, Office of Technology Transfer, 5601 Sunnyside Avenue, Room 4-1174, Beltsville, Maryland 20705-5131.

FOR FURTHER INFORMATION CONTACT: June Blalock of the Office of Technology Transfer at the Beltsville address given above; telephone: 301-504-5989.

SUPPLEMENTARY INFORMATION: The Federal Government's patent rights to this invention are assigned to the United States of America, as represented by the Secretary of Agriculture. It is in the public interest to so license this invention since CoBatCo Inc. has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Martha Steinbock,
Deputy Assistant Administrator.

[FR Doc. 05-8985 Filed 5-4-05; 8:45 am]

BILLING CODE 3410-03-P